DEPARTMENT OF TRANSPORTATION

Federal Aviation Administration

14 CFR Part 97

[Docket No. 30571; Amdt. No. 3237]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 5, 2007. The compliance date for each SIAP, associated Takeoff Minimums, and ODP is specified in the amendatory provisions.

The incorporation by reference of certain publications listed in the regulations is approved by the Director of the Federal Register as of October 5, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 21, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 25 OCT 2007

Fort Smith, AR, Fort Smith Regional, RNAV (GPS) RWY 1, Amdt 1

Fort Smith, AR, Fort Smith Regional, Takeoff Minimums and Obstacle DP, Amdt 4

Longmont, CO, Vance Brand, VOR/DME-A, Amdt 1A

Washington, DC, Washington Dulles Intl, RNAV (RNP) Z RWY 1L, Orig-A

Lakeland, FL, Lakeland Linder Regional, ILS OR LOC RWY 5, Amdt 7

Lakeland, FL, Lakeland Linder Regional, RNAV (GPS) RWY 9, Orig

Lakeland, FL, Lakeland Linder Regional, RNAV (GPS) RWY 27, Orig

Lakeland, FL, Lakeland Linder Regional, VOR RWY 27, Amdt 7

Lakeland, FL, Lakeland Linder Regional, Takeoff Minimums and Obstacle DP, Orig

Pensacola, FL, Pensacola Rgnl, LOC RWY 26, Amdt 1

St. Augustine, FL, St Augustine, Takeoff Minimums and Obstacle DP, Orig

Vero Beach, FL, Vero Beach Muni, Takeoff Minimums and Obstacle DP, Orig

Atlanta, GA, Hartsfield-Jackson Atlanta Intl, ILS OR LOC RWY 10, Amdt 1A, ILS RWY 10 (CAT II), ILS RWY 10 (CAT III)

Atlanta, GA, Hartsfield-Jackson Atlanta Intl, ILS OR LOC RWY 28, Amdt 1A, ILS RWY 28 (CAT II)

Atlanta, GA, Hartsfield-Jackson Atlanta Intl, ILS PRM RWY 10, Amdt 1A, ILS PRM RWY 10 (CAT II) ILS PRM RWY 10 (CAT III), (Simultaneous Close Parallel)

Atlanta, GA, Hartsfield-Jackson Atlanta Intl, ILS PRM RWY 28, Amdt 1A, ILS PRM RWY 28 (CAT II), Simultaneous Close Parallel)

Savannah, GA, Savannah/Hilton Head Intl, MLS RWY 27, Amdt 1A, CANCELLED

Boise, ID, Boise Air Terminal/Gowen Fld, ILS OR LOC RWY 10R, Amdt 10, ILS RWY 10R (CAT II)

Garden City, KS, Garden City Regional, VOR/DME RWY 17, Amdt 2

Wichita, KS, Cessna ACFT Field, RNAV (GPS)-D, Amdt 1

Wichita, KS, Cessna ACFT Field, Takeoff Minimums and Obstacle DP, Orig

Washington, MO, Washington Regional, RNAV (GPS) RWY 15, Amdt 1

Washington, MO, Washington Regional, RNAV (GPS) RWY 33, Amdt 1

Washington, MO, Washington Regional, VOR-A, Amdt 1

Booneville/Baldwyn, MS, Booneville/Baldwyn, Takeoff Minimums and Obstacle DP, Orig

Tekamah, NE, Tekamah, Muni, RNAV (GPS) RWY 14, Orig

Tekamah, NE, Tekamah, Muni, RNAV (GPS) RWY 32, Orig

Tekamah, NE, Tekamah, Muni, GPS RWY 32, Orig, CANCELLED

Tekamah, NE, Tekamah, Muni, VOR RWY 32, Amdt 6

Tekamah, NE, Tekamah, Muni, Takeoff Minimums and Obstacle DP, Amdt 2

Maxton, NC, Laurinburg-Maxton, Takeoff Minimums and Obstacle DP, Orig

Goldsby, OK, David Jay Perry, VOR/DME RWY 31, Amdt 2

Goldsby, OK, David Jay Perry, Takeoff Minimums and Obstacle DP, Orig

Bend, OR, Bend Muni, RNAV (GPS) RWY 16, Amdt 1

Bend, OR, Bend Muni, VOR/DME RWY 16, Amdt 9

Bend, OR, Bend Muni, Takeoff Minimums and Obstacle DP, Amdt 3

Camden, SC, Woodward Field, RNAV (GPS) RWY 6, Orig

Camden, SC, Woodward Field, RNAV (GPS) RWY 24, Orig

Camden, SC, Woodward Field, VOR/DME-A, Amdt 4

Camden, SC, Woodward Field, Takeoff Minimums and Obstacle DP, Amdt 1

Camden, SC, Woodward Field, NDB OR GPS RWY 24, Amdt 6B, CANCELLED

Clemson, SC, Oconee County Rgnl, RNAV (GPS) RWY 7, Amdt 1

Clemson, SC, Oconee County Rgnl, RNAV (GPS) RWY 25, Amdt 1

Clemson, SC, Oconee County Rgnl, Takeoff Minimums and Obstacle DP, Amdt 2

Millington, TN, Millington Regional Jetport, ILS OR LOC RWY 22, Amdt 4

Millington, TN, Millington Regional Jetport, RNAV (GPS) RWY 22, Amdt 1

Millington, TN, Millington Regional Jetport, VOR/DME OR TACAN RWY 22, Amdt 2A

Millington, TN, Millington Regional Jetport, Takeoff Minimums and Obstacle DP, Orig

Trenton, TN, Gibson County, RNAV (GPS) RWY 1, Orig

Trenton, TN, Gibson County, RNAV (GPS) RWY 19, Orig

Trenton, TN, Gibson County, VOR/DME-A, Amdt 6

Dallas-Fort Worth, TX, Dallas-FT Worth Intl, RNAV (RNP) Z RWY 31R, Amdt 1

Forth Worth, TX, Forth Worth Spinks, Takeoff Minimums and Obstacle DP, Amdt 3

Grand Prairie, TX, Grand Prairie Muni, Takeoff Minimums and Obstacle DP, Amdt 3

Mesquite, TX, Mesquite Metro, Takeoff Minimums and Obstacle DP, Amdt 3

Effective 22 NOV 2007

Bessemer, AL, Bessemer, VOR RWY 5, Amdt 6

West Palm Beach, FL, Palm Beach Intl, ILS OR LOC RWY 9L, Amdt 24A

Effective 20 DEC 2007

Cold Bay, AK, Cold Bay, ILS OR LOC/DME RYW 14, Amdt 17A

Jonesboro, AR, Jonesboro Muni, Takeoff Minimums and Obstacle DP, Amdt 2

Texarkana, AR, Texarkana Regional-Webb Field, Takeoff Minimums and Obstacle DP, Amdt 4

Daytona Beach, FL, Daytona Beach Intl, RNAV (GPS) RWY 25R, Amdt 2A

Key West, FL, Key West Intl, RNAV (GPS) RWY 9, Amdt 1

Orlando, FL, Kissimmee Gateway, ILS OR LOC RWY 15, Orig-A

Fort Dodge, IA, Fort Dodge Regional, RNAV (GPS) RWY 12, Orig

Fort Dodge, IA, Fort Dodge Regional, RNAV (GPS) RWY 30, Orig

Fort Dodge, IA, Fort Dodge Regional, VOR RWY 12, Amdt 15

Fort Dodge, IA, Fort Dodge Regional, VOR/DME RWY 30, Amdt 10

Fort Dodge, IA, Fort Dodge Regional, Takeoff Minimums and Obstacle DP, Orig

Salisbury, MD, Salisbury-Ocean City Wicomico Regional, Takeoff Minimums and Obstacle DP, Orig

Bemidji, MN, Bemidji Regional, LOC/DME RWY 25, Orig, CANCELLED

Pedricktown, NJ, Spitfire Aerodrome, RNAV (GPS) RWY 25, Amdt 1

Watertown, NY, Watertown Intl, Takeoff Minimums and Obstacle DP, Orig

Collegeville, PA, Perkiomen Valley, RNAV (GPS) RWY 9, Amdt 1

Du Bois, PA, Du Bois-Jefferson County, RNAV (GPS) RWY 7, Orig

Du Bois, PA, Du Bois-Jefferson County, VOR/DME RNAV OR GPS RWY 7, Amdt 1, CANCELLED

Du Bois, PA, Du Bois-Jefferson County, Takeoff Minimums and Obstacle DP, Orig

Cotulla, TX, Cotulla-La Salle County, VOR-A, Amdt 13

Cotulla, TX, Cotulla-La Salle County, Takeoff Minimums and Obstacle DP, Orig

Farmville, VA, Farmville Regional, Takeoff Minimums and Obstacle DP, Orig

Huntington, WV, Tri-State/Milton J. Ferguson Field, ILS OR LOC RWY 12, Amdt 12

Huntington, WV, Tri-State/Milton J. Ferguson Field, ILS OR LOC RWY 30, Amdt 5

Huntington, WV, Tri-State/Milton J. Ferguson Field, RNAV (GPS) RWY 12, Amdt 1

Huntington, WV, Tri-State/Milton J. Ferguson Field, RADAR-1, Amdt 6

Huntington, WV, Tri-State/Milton J. Ferguson Field, Takeoff Minimums and Obstacle DP, Orig

[FR Doc. E7-19240 Filed 10-4-07; 8:45 am]

BILLING CODE 4910-13-P